DEPARTMENT OF COMMERCE

National Oceanic and Atmospheric Administration

RIN 0648-XH93

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Groundfish Oversight Committee in June, 2008 to consider actions affecting New England fisheries in the exclusive economic zone (EEZ). Recommendations from this group will be brought to the full Council for formal consideration and action, if appropriate.

DATES: This meeting will be held on Monday, June 2, 2008 at 9 a.m.

ADDRESSES: Meeting address: The meeting will be held at the Holiday Inn by the Bay, 88 Spring Street, Portland, ME 04101; telephone: (207) 775-2311; fax: (207) 772-4017.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Committee will meet to review Draft Amendment 16 to the Northeast Multispecies Fishery Management Plan (FMP) and its accompanying Draft Environmental Impact Statement (DEIS). This amendment is being developed to continue groundfish rebuilding plans. The Committee will also receive reports from the Groundfish Advisory Panel and the Recreational Advisory Panel. After considering the advice of the Advisory Panels and reviewing the draft amendment and DEIS, the Committee may identify preferred management measure alternatives from the options in the document. The Committee may also suggest modifications to the measures text or the analyses of impacts. The Committee decisions will be reported to the full Council at a meeting on June 4, 2008.

There is a possibility that this meeting may be cancelled. The Committee is also scheduled to meet May 13, 2008 to discuss Amendment 16. If the Committee decides that it has completed its work on the amendment at that meeting, the meeting on June 2, 2008 may be cancelled. Notice to the public will be provided via the Federal Register and on the Council's web page (www.nefmc.org) if this occurs.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at 978-465-0492, at least 5 days prior to the meeting date.

Authority: 16 U.S.C. 1801 et seq.

Dated: May 9, 2008.
Tracey L. Thompson,
Acting Director, Office of Sustainable Fisheries, National Marine Fisheries Service.

[FR Doc. E8-10750 Filed 5-13-08; 8:45 am]

BILLING CODE 3510-22-S